DEPARTMENT OF COMMERCE

Economic Development Administration

[Docket No.: 070607177-7586-02]

Solicitation of Applications for the National Technical Assistance, Training, Research and Evaluation Program: Information Dissemination Project and Business Incubator Research Project

AGENCY: Economic Development Administration (EDA), Department of Commerce.

ACTION: Notice and request for applications.

SUMMARY: The Economic Development Administration (EDA) publishes this notice to solicit applications for funding under its National Technical Assistance, Training, Research and Evaluation Program (NTA Program). On June 21, 2007, EDA published in the Federal Register a notice regarding NTA Program funding, to solicit applications for funding that address one or both of the following two projects: (1) Information dissemination to practitioners serving economically distressed areas; and (2) a national symposium to bring together leaders to discuss current and future trends in economic development. On July 6, 2007, EDA published another notice in the Federal Register to solicit applications for funding that address one or more of four research projects, including one relating to business incubators. After completing its review of applications submitted in response to the June 21, 2007 and July 6, 2007 Federal Register notices, EDA decided not to make an award for either the information dissemination project or the business incubator research project. Through this notice, EDA solicits applications for funding that address only the information dissemination project or the business incubator research project. EDA encourages applicants to read the descriptions of both projects as EDA has provided additional information on important requirements that were not in the original Federal Funding Opportunity (FFO) announcements and Federal Register notices.

DATES: The closing date and time for receipt of electronic or paper applications for funding under this notice and request for applications is Friday, November 9, 2007 at 5 p.m. EST. To be considered timely, a completed application, regardless of the format in which it is submitted, must be either: (1) Received by the EDA representative listed below under “Paper Submissions” no later than November 9, 2007 at 5 p.m. EST; or (2) transmitted and time-stamped at www.grants.gov no later than November 9, 2007 at 5 p.m. EST. Any application received or transmitted, as the case may be, after 5 p.m. EST on November 9, 2007 will be considered non-responsive and will not be considered for funding. By December 7, 2007, EDA expects to notify the applicants selected for investment assistance under this notice. The selected applicant should expect to receive funding for its project within thirty days of EDA's notification of selection. Applicants choosing to submit completed applications electronically in whole or in part through www.grants.gov should follow the instructions set out below under “Electronic Access” and in section IV. of the complete FFO announcement for this request for applications.

ADDRESSES: Paper Submissions: Full or partial paper (hardcopy) applications submitted pursuant to this notice and request for applications may be:

1. E-mailed to William P. Kittredge, Senior Program Analyst, at wkittredge@eda.doc.gov; or

2. Hand-delivered or mailed to William P. Kittredge, Senior Program Analyst, Economic Development Administration, Room 7009, U.S. Department of Commerce, 1401 Constitution Avenue, NW., Washington, DC 20230.

Applicants submitting full or partial paper submissions are encouraged to do so by e-mail. Applicants are advised that, due to mail security measures, EDA's receipt of mail sent via the United States Postal Service may be substantially delayed or suspended in delivery.

Electronic Submissions: Applicants may submit applications electronically in whole or in part in accordance with the instructions provided at www.grants.gov and in section IV.B. of the FFO announcement. EDA strongly encourages that applicants not wait until the application closing date to begin the application process through www.grants.gov. The preferred file format for electronic attachments (e.g., the project narrative and additional exhibits to Form ED-900A and Form ED-900A's program-specific component) is portable document format (PDF); however, EDA will accept electronic files in Microsoft Word, WordPerfect, Lotus or Excel formats.

FOR FURTHER INFORMATION CONTACT: For additional information regarding paper submissions, please contact William P. Kittredge, Senior Program Analyst, via e-mail at wkittredge@eda.doc.gov (preferred) or by telephone at (202) 482-5442. For additional information regarding electronic submissions, please access the following link for assistance in navigating www.grants.gov and for a list of useful resources: http://www.grants.gov/applicants/applicant_help.jsp. If you do not find an answer to your question under Frequently Asked Questions, try consulting the Applicant's User Guide. If you still cannot find an answer to your question, contact www.grants.gov via email at support@grants.gov or telephone at 1-800-518-4726. The hours of operation for www.grants.gov are Monday-Friday, 7 a.m. to 9 p.m. (EST) (except for federal holidays). Additional information about EDA and its NTA Program may be obtained from EDA's Internet Web site at http://www.eda.gov.

SUPPLEMENTARY INFORMATION:

Background Information: On June 21, 2007 and July 6, 2007, EDA published two separate Federal Register notices soliciting applications for funding under its NTA Program. The June 21, 2007, Federal Register notice (72 FR 34225) solicited applications for funding that addressed one or both of the following two projects: (1) Information dissemination to practitioners serving economically distressed areas; and (2) a national symposium to bring together leaders to discuss current and future trends in economic development. The deadline for receipt of applications closed July 23, 2007 at 5 p.m. EST. After completing its review of applications submitted in response to the June 21, 2007 Federal Register notice, EDA decided not to make an award for the information dissemination project. Through this notice, EDA solicits applications for the information dissemination project in accordance with the project description and deliverables set out in section I.B. of the FFO announcement. This notice does not address and does not solicit applications for the national symposium project.

The July 6, 2007, Federal Register notice (72 FR 36952) solicited applications for funding that addressed one or more of the following four research projects: (1) Rural economic development policy; (2) business incubators; (3) 21st century regionalism; and (4) private sector community investment. The deadline for receipt of applications closed on August 3, 2007 at 5 p.m. EST. After completing its review of applications submitted in response to the July 6, 2007 Federal Register notice, EDA decided not to make an award for the business incubator research project. Through this notice, EDA solicits applications for the business incubator research project in accordance with the project description set out in section I.B. of the FFO announcement. Because EDA has made awards for research projects for (1) Rural economic development policy, (2) 21st century regionalism, and (3) private sector community investments, this notice does not address or solicit applications for those projects.

Project Title: Information Dissemination to Practitioners Serving Economically Distressed Areas

As part of its ongoing mission to assist economically distressed areas, EDA supports the dissemination of information to economic development practitioners serving distressed communities. EDA's intent is to implement a coordinated and complementary information dissemination program that, through strategic linkages, reaches the maximum number of economic development practitioners. The dissemination effort includes the development of distribution lists for each deliverable, which will be made available to EDA for its use.

EDA is soliciting applications to fund three separate tasks that will serve the economic development needs of distressed rural and urban regions, take greater advantage of new technologies for information dissemination, and identify and widely disseminate information in new or emerging areas of economic development. As described in detail in the accompanying FFO announcement that can be accessed at www.grants.gov and at www.eda.gov, the information dissemination project will include a variety of media and has three component tasks: (i) Producing and broadcasting strategy telecasts; (ii) preparing and disseminating monthly electronic newsletters; and (iii) preparing and disseminating a quarterly magazine/pamphlet. The applicant must address all three tasks in its application.

Project Title: Business Incubators

Recent studies on economic development, including several EDA-funded reports, stress the importance of a regional approach to successful economic development efforts and the importance of fostering innovation and supporting entrepreneurship as key elements in regional economic development.

Pursuant to its NTA Program, EDA is soliciting applications to undertake research involving business incubators. Business incubators may provide wet lab or office space, and often also offer business support services, such as business planning and marketing assistance. Business incubators of whatever type share a common principle: To nurture the development of entrepreneurial companies. EDA solicits applications from qualified researchers to build on the existing body of knowledge about business incubators, distilling the characteristics of successful incubation efforts and discussing quantitative and qualitative approaches to measuring incubator success. The research must be peer-review quality, include coverage of recent developments, such as virtual incubators, and must be of sufficient scope that the results, including but not limited to identification of best practices, are generalizable across the United States.

To be considered for funding, all applications for the projects solicited through this notice must comply with the new program requirements set out in the FFO announcement. Any applicant that submitted an application during the previous solicitation period should submit a new and complete application, if it wishes to be considered for funding. All materials must be received by EDA by November 9, 2007 at 5 p.m. EST.

Application Package: An application package for either proposed project consists of the following three forms:

1. Form ED-900A, Application for Investment Assistance (OMB Control No. 0610-0094);

2. Form ED-900A's program-specific component, National Technical Assistance, Training, and Research and Evaluation Program Requirements (OMB Control No. 0610-0094); and

3. Form SF-424, Application for Federal Assistance (OMB Control No. 4040-0004).

Please note that applicants must submit all three forms in accordance with the instructions provided in sections IV. and VII.B. of the FFO announcement. Applicants also must ensure that they access and complete the current version of all required forms.

As stated in section I.A. of the FFO announcement, applicants that applied during the prior solicitation period and are interested in applying under this competitive solicitation should submit new and complete applications that fully adhere to the project descriptions and deliverables set out under section I.B. of the FFO announcement.

Submitting Application Packages: Applications for either project may be submitted in three formats: (1) Full paper (hardcopy) submission; (2) partial paper (hardcopy) submission and partial electronic submission; or (3) full electronic submission, each in accordance with the procedures provided in section IV.B. of the FFO announcement. The content of the application is the same for paper submissions as it is for electronic submissions. Applications completed in accordance with the instructions set forth in the FFO announcement, regardless of the option chosen for submission, will be considered for EDA funding under this request for applications. Incomplete applications and applications submitted by facsimile will not be considered.

Paper Access: Each of the three forms listed above under “Application Package” are separate attachments available at http://www.eda.gov/InvestmentsGrants/Application.xml. You may print copies of each of these forms from http://www.eda.gov/InvestmentsGrants/Application.xml. You also may obtain paper application packages by contacting the EDA representative listed above under “For Further Information Contact.”

Electronic Access: Applicants may apply electronically through www.grants.gov, and may access this grant opportunity synopsis by following the instructions provided on http://www.grants.gov/search/basic.do. The synopsis will have an application package, which is an electronic file that contains forms pertaining to this specific grant opportunity. On http://www.grants.gov/search/basic.do, applicants can perform a basic search for this grant opportunity by completing the “Keyword Search,” the “Search by Funding Opportunity Number,” or the “Search by CFDA Number” field, and then clicking the “Search” button.

Funding Availability: EDA will use funds currently available to make awards under the NTA Program authorized under section 207 of the Public Works and Economic Development Act of 1965 (42 U.S.C. 3147), as amended (PWEDA), and 13 CFR part 306, subpart A.

Based on recent past awards for projects similar to the information dissemination project solicited under this announcement, the range of total expenditures for such projects has been from $150,000 to $250,000.

Based on recent past awards for research projects similar to the business incubator research project solicited under this announcement, the range of funding awarded for such a project has been from $150,000 to $350,000. The project period will be one year from the date the award is made, but the recipient may be required to remain available to present research findings at select meetings and conferences approximately six to twelve months beyond the project period. Although the schedule for such meetings and conferences will likely not be known until EDA has received the final business incubator research report, they will be scheduled in consultation with the recipient, and the recipient will have ample time to prepare.

Statutory Authority: The authority for the NTA Program is PWEDA. EDA published final regulations (codified at 13 CFR chapter III) in the Federal Register on September 27, 2006 (71 FR 56658). The final regulations and PWEDA are accessible on EDA's Internet website at http://www.eda.gov/InvestmentsGrants/Lawsreg.xml. These regulations will govern an award made under this notice and request for applications.

Catalog of Federal Domestic Assistance (CFDA) Numbers: 11.303, Economic Development—Technical Assistance; 11.312, Economic Development—Research and Evaluation.

Eligibility Requirement: Pursuant to PWEDA, eligible applicants for and eligible recipients of EDA investment assistance include a District Organization; an Indian Tribe or a consortium of Indian Tribes; a State; a city or other political subdivision of a State, including a special purpose unit of a State or local government engaged in economic or infrastructure development activities, or a consortium of political subdivisions; an institution of higher education or a consortium of institutions of higher education; a public or private non-profit organization or association; and, as provided in section 207 of PWEDA (42 U.S.C. 3147) for the NTA Program, a for-profit organization. See section 3 of PWEDA (42 U.S.C. 3122) and 13 CFR 300.3.

Cost Sharing Requirement: Generally, the amount of the EDA grant may not exceed fifty (50) percent of the total cost of the project. However, a project may receive an additional amount that shall not exceed thirty (30) percent, based on the relative needs of the region in which the project will be located, as determined by EDA. See section 204(a) of PWEDA (42 U.S.C. 3144) and 13 CFR 301.4(b)(1). Under this competitive solicitation, the Assistant Secretary of Commerce for Economic Development (Assistant Secretary) also has the discretion to establish a maximum EDA investment rate of up to one hundred (100) percent where the project (i) merits and is not otherwise feasible without an increase to the EDA investment rate; or (ii) will be of no or only incidental benefit to the recipient. See section 204(c)(3) of PWEDA (42 U.S.C. 3144) and 13 CFR 301.4(b)(4).

While cash contributions are preferred, in-kind contributions, consisting of assumptions of debt or contributions of space, equipment, and services, may provide the non-federal share of the total project cost. See section 204(b) of PWEDA (42 U.S.C. 3144). EDA will fairly evaluate all in-kind contributions, which must be eligible project costs and meet applicable federal cost principles and uniform administrative requirements. Funds from other federal financial assistance awards are considered matching share funds only if authorized by statute that allows such use, which may be determined by EDA's reasonable interpretation of the statute. See 13 CFR 300.3. The applicant must show that the matching share is committed to the project, available as needed and not conditioned or encumbered in any way that precludes its use consistent with the requirements of EDA investment assistance. See 13 CFR 301.5.

Intergovernmental Review: Applications under the NTA Program are not subject to Executive Order 12372, “Intergovernmental Review of Federal Programs.”

Evaluation and Selection Procedures: To apply for an award under this request for applications, an eligible applicant must submit a completed application package to EDA before the closing date and time specified in the “Dates” section of this notice, and in the manner provided in section IV. of the FFO announcement. Any application received or transmitted, as the case may be, after 5 p.m. EST on November 9, 2007 will not be considered for funding. Applications that do not meet all items required or that exceed the page limitations set forth in section IV.C. of the FFO announcement will be considered non-responsive and will not be considered for funding. By December 7, 2007, EDA expects to notify the applicants selected for investment assistance under this notice. Unsuccessful applicants will be notified by postal mail that their applications were not selected for funding. Applications that meet all the requirements will be evaluated by a review panel comprised of at least three EDA staff members, all of whom will be full-time federal employees.

Evaluation Criteria: The review panel will evaluate the applications received for each proposed project and rate and rank them using the following criteria of approximate equal weight:

1. Conformance with EDA's statutory and regulatory requirements, including the extent to which the proposed project satisfies the award requirements set out below and as provided in 13 CFR 306.2:

a. Strengthens the capacity of local, State or national organizations and institutions to undertake and promote effective economic development programs targeted to regions of distress;

b. Benefits distressed regions; and

c. Demonstrates innovative approaches to stimulate economic development in distressed regions;

2. The degree to which an EDA investment will have strong organizational leadership, relevant project management experience and a significant commitment of human resources talent to ensure the project's successful execution (see 13 CFR 301.8(b));

3. The ability of the applicant to implement the proposed project successfully (see 13 CFR 301.8);

4. The feasibility of the budget presented; and

5. The cost to the Federal government.

Selection Factors: The Assistant Secretary will be the Selecting Official. EDA expects to fund the highest ranking application for each project, as recommended by the review panel, submitted under this competitive solicitation. However, for one or both projects, the Assistant Secretary may not make any selection, or he may select an application out of rank order for the following reasons: (1) A determination that the application better meets the overall objectives of sections 2 and 207 of PWEDA (42 U.S.C. 3121 and 3147); (2) the applicant's performance under previous awards; or (3) the availability of funding.

The Department of Commerce Pre-Award Notification Requirements for Grants and Cooperative Agreements

The Department of Commerce Pre-Award Notification Requirements for Grants and Cooperative Agreements, published in the Federal Register on December 30, 2004 (69 FR 78389), are applicable to this competitive solicitation. This notice may be accessed by entering the Federal Register volume and page number provided in the previous sentence at the following Internet website: http://www.gpoaccess.gov/fr/retrieve.html.

Paperwork Reduction Act

This request for applications contains collections of information subject to the requirements of the Paperwork Reduction Act (PRA). The Office of Management and Budget (OMB) has approved the use of Form ED-900A (Application for Investment Assistance) under control number 0610-0094. Form ED-900A's program-specific component (National Technical Assistance, Training, and Research and Evaluation Program Requirements) also is approved under OMB control number 0610-0094, and incorporates Forms SF-424A (Budget Information—Non-Construction Programs, OMB control number 0348-0044) and SF-424B (Assurances—Non-Construction Programs, OMB control number 0348-0040). OMB has approved the use of Form SF-424 (Application for Financial Assistance) under control number 4040-0004. Notwithstanding any other provision of law, no person is required to respond to, nor shall any person be subject to a penalty for failure to comply with, a collection of information subject to the requirements of the PRA unless the collection of information displays a currently valid OMB control number.

Executive Order 12866

This notice has been determined to be not significant for purposes of Executive Order 12866, “Regulatory Planning and Review.”

Executive Order 13132

It has been determined that this notice does not contain “policies that have Federalism implications,” as that phrase is defined in Executive Order 13132, “Federalism.”

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: October 15, 2007.
Benjamin Erulkar,
Deputy Assistant Secretary of Commerce for Economic Development and Chief Operating Officer.

[FR Doc. E7-20627 Filed 10-18-07; 8:45 am]

BILLING CODE 3510-24-P